ENVIRONMENTAL PROTECTION AGENCY

40 CFR Part 52

[IA-191-1191; FRL-7812-5]

Approval and Promulgation of Air Quality Implementation Plans; Iowa Update to Materials Incorporated by Reference

AGENCY: Environmental Protection Agency (EPA).

ACTION: Final rule; notice of administrative change.

SUMMARY: EPA is updating the materials submitted by Iowa that are incorporated by reference (IBR) into the state implementation plan (SIP). The regulations affected by this update have been previously submitted by the state agency and approved by EPA. This update affects the SIP materials that are available for public inspection at the Office of the Federal Register (OFR), Office of Air and Radiation Docket and Information Center, and the Regional Office.

DATES: This action is effective September 23, 2004.

ADDRESSES: SIP materials which are incorporated by reference into 40 CFR part 52 are available for inspection at the following locations: Environmental Protection Agency, Region VII, 901 North 5th Street, Kansas City, KS 66101; or at the EPA, Office of Air and Radiation Docket and Information Center, Room B-108, 1301 Constitution Avenue, NW., (Mail Code 6102T), Washington, DC 20460, or the National Archives and Records Administration (NARA). For information on the availability of this material at NARA, call 202-741-6030, or go to: http://www.archives.gov/federal_register/code_of_federal_regulations/ibr_locations.html.

FOR FURTHER INFORMATION CONTACT: Evelyn VanGoethem at (913) 551-7659, or by e-mail at vangoethem.evelyn@epa.gov.

SUPPLEMENTARY INFORMATION: The SIP is a living document which the State can revise as necessary to address the unique air pollution problems in the state. Therefore, EPA from time to time must take action on SIP revisions containing new and/or revised regulations as being part of the SIP. On May 22, 1997 (62 FR 27968), EPA revised the procedures for incorporating by reference Federally-approved SIPs, as a result of consultations between EPA and the Office of Federal Register (OFR). The description of the revised SIP document, IBR procedures and “Identification of plan” format are discussed in further detail in the May 22, 1997, Federal Register document.

On February 12, 1999, EPA published a document in the Federal Register (64 FR 7091) beginning the new IBR procedure for Iowa. In today's document EPA is updating the IBR material.

EPA is also making a minor correction to the table in § 52.820(c). On February 2, 1998 (63 FR 5269), EPA updated regulations for Linn County Health Department. The table is being updated to include information in the “Explanation” column that was inadvertently omitted. EPA is also making a minor correction to the table in § 52.820(d). On March 11, 1999 (64 FR 12090), EPA approved an administrative consent order for IES Utilities. The title of the order, which was identified as “98-AQ-20”, is corrected to read “97-AQ-20.”

On November 22, 1999 (64 FR 63694), paragraph (b) of § 52.824 Original identification of plan section was updated instead of paragraph (b) of § 52.820 Identification of plan section. We are correcting paragraph (b) of § 52.824.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved state programs. Under section 553 of the APA, an agency may find good cause where procedures are “impractical, unnecessary, or contrary to the public interest.” Public comment is “unnecessary” and “contrary to the public interest” since the codification only reflects existing law. Immediate notice in the CFR benefits the public by updating citations.

Statutory and Executive Order Reviews

Under Executive Order 12866 (58 FR 51735, October 4, 1993), this action is not a “significant regulatory action” and is therefore not subject to review by the Office of Management and Budget. This action is not subject to Executive Order 13211, “Actions Concerning Regulations That Significantly Affect Energy Supply, Distribution, or Use” (66 FR 28355, May 22, 2001) because it is not a significant regulatory action under Executive Order 12866. Because the agency has made a good cause finding that this action is not subject to notice-and-comment requirements under the Administrative Procedure Act or any other statute as indicated in the SUPPLEMENTARY INFORMATION section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA.

This action also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This action also is not subject to Executive Order 13045 (62 FR 19885, April 23, 1997), because it is not economically significant. This action does not involve technical standards; thus the requirements of section 12(d) of the National Technology Transfer and Advancement Act of 1995 (15 U.S.C. 272 note) do not apply. The action also does not involve special consideration of environmental justice related issues as required by Executive Order 12898 (59 FR 7629, February 16, 1994). With this action, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of this action in accordance with the “Attorney General's Supplemental Guidelines for the Evaluation of Risk and Avoidance of Unanticipated Takings” issued under the executive order. This action does not impose an information collection burden under the Paperwork Reduction Act of 1995 (44 U.S.C. 3501 et seq.). EPA's compliance with these statutes and Executive Orders for the underlying rules are discussed in previous actions taken on the State's rules.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the Congressional Review Act if the agency makes a good cause finding that notice and public procedure is impracticable, unnecessary or contrary to the public interest. Today's action simply codifies provisions which are already in effect as a matter of law in Federal and approved state programs (5 U.S.C. 808(2). As previously stated, EPA has made such a good cause finding, including the reasons therefore, and established an effective date of September 23, 2004. EPA will submit a report containing this rule and other required information to the U.S. Senate, the U.S. House of Representatives, and the Comptroller General of the United States prior to publication of the rule in the Federal Register. This action is not a “major rule” as defined by 5 U.S.C. 804(2).

EPA has also determined that the provisions of section 307(b)(1) of the CAA pertaining to petitions for judicial review are not applicable to this action. Prior EPA rulemaking actions for each individual component of the Iowa SIP compilation had previously afforded interested parties the opportunity to file a petition for judicial review in the United States Court of Appeals for the appropriate circuit within 60 days of such rulemaking action. Thus, EPA does not believe that this action reopens the 60-day period for filing such petitions for judicial review for these “Identification of plan” actions for Iowa.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: August 31, 2004.
William Rice,
Acting Regional Administrator, Region 7.

Chapter I, title 40, Code of Federal Regulations, is amended as follows:

PART 52—[AMENDED]

1. The authority citation for part 52 continues to read as follows:

Authority: 42 U.S.C. 7401 et seq.

Subpart Q—Iowa

2. In § 52.820 paragraphs (b), (c), (d) and (e) are revised to read as follows:

§ 52.820 Identification of plan.

* * * * *

(b) Incorporation by reference.

(1) Material listed in paragraphs (c) and (d) of this section with an EPA approval date prior to August 10, 2004, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after August 10, 2004, will be incorporated by reference in the next update to the SIP compilation.

(2) EPA Region VII certifies that the rules/regulations provided by EPA in the SIP compilation at the addresses in paragraph (b)(3) of this section are an exact duplicate of the officially promulgated state rules/regulations which have been approved as part of the SIP as of August 10, 2004.

(3) Copies of the materials incorporated by reference may be inspected at the Environmental Protection Agency, Region VII, Air Planning and Development Branch, 901 North 5th Street, Kansas City, Kansas 66101; or at the EPA, Air and Radiation Docket and Information Center, Room B-108, 1301 Constitution Avenue, NW (Mail Code 6102T), Washington, DC 20460; or the National Archives and Records Administration (NARA). For information on the availability of this material at NARA, call 202-741-6030, or go to: http://www.archives.gov/federal_register/code_of_federal_regulations/ibr_locations.html.

(c) EPA-approved regulations.

EPA-Approved Iowa Regulations
Iowa citation | Title | State effective date | EPA approval date | Explanation
Iowa Department of Natural Resources Environmental Protection Commission [567]
Chapter 20—Scope of Title-Definitions-Forms-Rule of Practice
567-20.1 | Scope of Title | 5/13/98 | 5/22/00, 65 FR 32031
567-20.2 | Definitions | 7/21/99 | 3/4/02, 67 FR 9593 | The definitions for anaerobic lagoon, odor, odorous substance, and odorous substance, and source, are not SIP approved.
567-20.3 | Air Quality Forms Generally | 4/24/02 | 3/7/03, 68 FR 10971
Chapter 21—Compliance
567-21.1 | Compliance Schedule | 3/14/90 | 6/29/90, 55 FR 26690
567-21.2 | Variances | 7/21/99 | 3/04/02, 67 FR 9593
567-21.3 | Emission Reduction Program | 3/14/90 | 6/29/90, 55 FR 26690
567-21.4 | Circumvention of Rules | 3/14/90 | 6/29/90, 55 FR 26690
567-21.5 | Evidence Used in Establishing That a Violation Has or Is Occurring | 11/16/94 | 10/30/95, 60 FR 55198
Chapter 22—Controlling Pollution
567-22.1 | Permits Required for New or Existing Stationary Sources | 7/17/02 | 3/7/03, 68 FR 10971 | Subrules 22.1(2), 22.1(2) “g,” 22.1(2) “i” have a state effective date of 5/23/01.
567-22.2 | Processing Permit Applications | 4/9/97 | 6/25/98, 63 FR 34600
567-22.3 | Issuing Permits | 4/24/02 | 3/7/03, 68 FR 10971 | Subrule 22.3(6) is not SIP approved.
567-22.4 | Special Requirements for Major Stationary Sources Located in Areas Designated Attainment or Unclassified (PSD) | 3/14/01 | 3/04/02, 67 FR 9593
567-22.5 | Special Requirements for Nonattainment Areas | 7/21/99 | 3/04/02, 67 FR 9593
567-22.8 | Permit by Rule | 7/21/99 | 3/04/02, 67 FR 9593
567-22.105 | Title V Permit Applications | 11/16/94 | 10/30/95, 60 FR 55198 | Only subparagraph (2)i(5) is included in the SIP.
567-22.200 | Definitions for Voluntary Operating Permits | 10/18/95 | 4/30/96, 61 FR 18958
567-22.201 | Eligibility for Voluntary Operating Permits | 4/24/02 | 3/7/03, 68 FR 10971
567-22.202 | Requirement to Have a Title V Permit | 4/9/97 | 6/25/98, 63 FR 34601
567-22.203 | Voluntary Operating Permit Applications | 10/14/98 | 3/04/02, 67 FR 9593
567-22.204 | Voluntary Operating Permit Fees | 12/14/94 | 4/30/96, 61 FR 18958
567-22.205 | Voluntary Operating Permit Processing Procedures | 12/14/94 | 4/30/96, 61 FR 18958
567-22.206 | Permit Content | 10/18/95 | 4/30/96, 61 FR 18958
567-22.207 | Relation to Construction Permits | 12/14/94 | 4/30/96, 61 FR 18958
567-22.208 | Suspension, Termination, and Revocation of Voluntary Operating Permits | 12/14/94 | 4/30/96, 61 FR 18958
567-22.300 | Operating Permit by Rule for Small Sources | 4/24/02 | 3/7/03, 68 FR 10971 | Subrule 22.300(7) “c” has a state effective date of 10/14/98.
Chapter 23—Emission Standards for Contaminants
567-23.1 | Emission Standards | 10/14/98 | 5/22/00, 65 FR 32031 | Subrules 23.1(2)-(5) are not SIP approved.
567-23.2 | Open Burning | 5/13/98 | 5/22/00, 65 FR 32031
567-23.3 | Specific Contaminants | 7/21/99 | 3/04/02, 67 FR 9593 | Subrule 23.3(2) has a state effective date of 5/13/98. Subrule 23.3(3) “(d)” is not SIP approved.
567-23.4 | Specific Processes | 7/21/99 | 3/04/02, 67 FR 9593 | Subrule 23.4(10) is not SIP approved.
Chapter 24—Excess Emissions
567-24.1 | Excess Emission Reporting | 5/13/98 | 5/22/00, 65 FR 32031
567-24.2 | Maintenance and Repair Requirements | 3/14/90 | 6/29/90, 55 FR 26690
Chapter 25—Measurement of Emissions
567-25.1 | Testing and Sampling of New and Existing Equipment | 4/24/02 | 3/7/03, 68 FR 10971
Chapter 26—Prevention of Air Pollution Emergency Episodes
567-26.1 | General | 3/14/90 | 6/29/90, 55 FR 26690
567-26.2 | Episode Criteria | 3/14/90 | 6/29/90, 55 FR 26690
567-26.3 | Preplanned Abatement Strategies | 3/14/90 | 6/29/90, 55 FR 26690
567-26.4 | Actions During Episodes | 3/14/90 | 6/29/90, 55 FR 26690
Chapter 27—Certificate of Acceptance
567-27.1 | General | 3/14/90 | 6/29/90, 55 FR 26690
567-27.2 | Certificate of Acceptance | 3/14/90 | 6/29/90, 55 FR 26690
567-27.3 | Ordinance or Regulations | 3/14/90 | 6/29/90, 55 FR 26690
567-27.4 | Administrative Organization | 3/14/90 | 6/29/90, 55 FR 26690
567-27.5 | Program Activities | 3/14/90 | 6/29/90, 55 FR 26690
Chapter 28—Ambient Air Quality Standards
567-28.1 | Statewide Standards | 3/14/90 | 6/29/90, 55 FR 26690
Chapter 29—Qualification in Visual Determination of the Opacity of Emissions
567-29.1 | Methodology and Qualified Observer | 5/13/98 | 5/22/00, 65 FR 32031
Chapter 31—Nonattainment Areas
567-31.1 | Permit Requirements Relating to Nonattainment Areas | 2/22/95 | 10/23/97, 62 FR 55172
567-31.2 | Conformity of General Federal Actions to the Iowa SIP or Federal Implementation Plan | 5/13/98 | 5/22/00, 65 FR 32031
Linn County
Chapter 10 | Linn County Code of Ordinance Providing for Air Quality Chapter 10 | 3/7/97 | 2/2/98, 63 FR 5268 | The following sections are not EPA-approved: 10.2, definition of federally enforceable; 10.4(1), 10.9(2), 10.9(3), 10.9(4), 10.11, and 10.15.
Polk County
Chapter V | Polk County Board of Health Rules and Regulations Air Pollution Chapter V | 4/15/98, 10/4/00 | 1/9/04, 69 FR 1538 | Article I, Section 5-2, definition of “variance”; Article VI, Sections 5-16(n), (o) and (p); Article VIII, Article IX, Sections 5-27(3) and (4); Article XIII, and Article XVI, Section 5-75(b) are not a part of the SIP.

(d) EPA-approved State source-specific orders/permits.

EPA-Approved Iowa Source-Specific Orders/Permits
Name of source | Order/permit No. | State effective date | EPA approval date | Explanation
(1) Archer-Daniels Midland Company | 90-AQ-10 | 3/25/91 | 11/1/91, 56 FR 56158. |
(2) Interstate Power Company | 89-AQ-04 | 2/21/90 | 11/1/91, 56 FR 56158. |
(3) Grain Processing Corporation | 74-A-015-S | 9/18/95 | 12/1/97, 62 FR 63454. |
(4) Grain Processing Corporation | 79-A-194-S | 9/18/95 | 12/1/97, 62 FR 63454. |
(5) Grain Processing Corporation | 79-A-195-S | 9/18/95 | 12/1/97, 62 FR 63454. |
(6) Grain Processing Corporation | 95-A-374 | 9/18/95 | 12/1/97, 62 FR 63454. |
(7) Muscatine Power and Water | 74-A-175-S | 9/14/95 | 12/1/97, 62 FR 63454. |
(8) Muscatine Power and Water | 95-A-373 | 9/14/95 | 12/1/97, 62 FR 63454. |
(9) Monsanto Corporation | 76-A-161S3 | 7/18/96 | 12/1/97, 62 FR 63454. |
(10) Monsanto Corporation | 76-A-265S3 | 7/18/96 | 12/1/97, 62 FR 63454. |
(11) IES Utilities, Inc | 97-AQ-20 | 11/20/98 | 3/11/99, 64 FR 12090 | SO2 Control Plan for Cedar Rapids.
(12) Archer-Daniels-Midland Corporation | SO2 Emissions Control Plan | 9/14/98 | 3/11/99, 64 FR 12090 | ADM Corn Processing SO2 Control Plan for Cedar Rapids.
(13) Linwood Mining and Minerals Corporation | 98-AQ-07 | 3/13/98 | 3/18/99, 64 FR 13346 | PM10 control plan for Buffalo.
(14) Lafarge Corporation | 98-AQ-08 | 3/13/98 | 3/18/99, 64 FR 13346 | PM10 control plan for Buffalo.
(15) Holnam, Inc. | A.C.O. 1999-AQ-31 | 9/2/99 | 11/06/02, 67 FR 67565 | For a list of the 47 permits issued for individual emission points see IDNR letters to Holnam, Inc., dated 7/24/01.
(16) Holnam, Inc. | Consent Amendment to A.C.O. 1999-AQ-31 | 5/16/01 | 11/06/02, 67 FR 67565 | For a list of the 47 permits issued for individual emission points see IDNR letters to Holnam, Inc., dated 7/24/01.
(17) Holnam, Inc. | Permits for 17-01-009, Project Nos. 99-511 and 00-468 | 7/24/01 | 11/06/02, 67 FR 67565 | For a list of the 47 permits issued for individual emission points see IDNR letters to Holnam, Inc., dated 7/24/01.
(18) Lehigh Portland Cement Company | A.C.O. 1999-AQ-32 | 9/2/99 | 11/06/02, 67 FR 67565 | For a list of the 41 permits issued for individual emission points see IDNR letters to Lehigh dated 7/24/01 and 2/18/02.
(19) Lehigh Portland Cement Company | Permits for plant No. 17-01-005, Project Nos. 99-631 and 02-037 | 2/18/02 | 11/06/02, 67 FR 67565 | For a list of the 41 permits issued for individual emission points see IDNR letters to Lehigh dated 7/24/01 and 2/18/02.
(20) Blackhawk Foundry and Machine Company | A.C.O. 03-AQ-51 | 12/4/2003 | 6/10/04, 69 FR 32456 | Together with the permits listed below this order comprises the PM10 control strategy for Davenport, Iowa.
(21) Blackhawk Foundry and Machine Company | Permit No. 02-A-116 (Cold Box Core Machine) | 8/19/02 | 6/10/04, 69 FR 32456 | Provisions of the permit that relate to pollutants other than PM10 are not approved by EPA as part of this SIP.
(22) Blackhawk Foundry and Machine Company | Permit No. 02-A-290 (Wheelabrator #2 and Casting Sorting) | 8/19/02 | 6/10/04, 69 FR 32456 | Provisions of the permit that relate to pollutants other than PM10 are not approved by EPA as part of this SIP.
(23) Blackhawk Foundry and Machine Company | Permit No. 02-A-291 (Mold Sand Silo) | 8/19/02 | 6/10/04, 69 FR 32456 | Provisions of the permit that relate to pollutants other than PM10 are not approved by EPA as part of this SIP.
(24) Blackhawk Foundry and Machine Company | Permit No. 02-A-292 (Bond Storage) | 8/19/02 | 6/10/04, 69 FR 32456 | Provisions of the permit that relate to pollutants other than PM10 are not approved by EPA as part of this SIP.
(25) Blackhawk Foundry and Machine Company | Permit No. 02-A-293 (Induction Furnace and Aluminum Sweat Furnace) | 8/19/02 | 6/10/04, 69 FR 32456 | Provisions of the permit that relate to pollutants other than PM10 are not approved by EPA as part of this SIP.
(26) Blackhawk Foundry and Machine Company | Permit No. 77-A-114-S1 (Wheelabrator #1 & Grinding) | 8/19/02 | 6/10/04, 69 FR 32456 | Provisions of the permit that relate to pollutants other than PM10 are not approved by EPA as part of this SIP.
(27) Blackhawk Foundry and Machine Company | Permit No. 84-A-055-S1 (Cupola ladle, Pour deck ladle, Sand shakeout, Muller, Return sand #1, Sand cooler, Sand screen, and Return sand #2) | 8/19/02 | 6/10/04, 69 FR 32456 | Provisions of the permit that relate to pollutants other than PM10 are not approved by EPA as part of this SIP.
(28) Blackhawk Foundry and Machine Company | Permit No. 72-A-060-S5 (Cupola) | 8/19/02 | 6/10/04, 69 FR 32457 | Provisions of the permit that relate to pollutants other than PM10 are not approved by EPA as part of this SIP.

(e) The EPA approved nonregulatory provisions and quasi-regulatory measures.

EPA-Approved Iowa Nonregulatory Provisions
Name of nonregulatory SIP provision | Applicable geographic or nonattainment area | State submittal date | EPA approval date | Explanation
(1) Air Pollution Control Implementation Plan | Statewide | 1/27/72 | 5/31/72, 37 FR 10842
(2) Request for a Two Year Extension to Meet the NAAQS | Council Bluffs | 1/27/72 | 5/31/72, 37 FR 10842 | Correction notice published 3/2/76.
(3) Revisions to Appendices D and G | Statewide | 2/2/72 | 5/31/72, 37 FR 10842 | Correction notice published 3/2/76.
(4) Source Surveillance and Record Maintenance Statements | Statewide | 4/14/72 | 3/2/76, 41 FR 8960
(5) Statement Regarding Public Availability of Emissions Data | Statewide | 5/2/72 | 3/2/76, 41 FR 8960
(7) Letter Describing the Certificates of Acceptance for Local, Air Pollution Control Programs | Linn County, Polk County | 12/14/72 | 10/1/76, 41 FR 43407
(8) High Air Pollution Episode Contingency Plan | Statewide | 6/20/73 | 10/1/76, 41 FR 43407
(9) Summary of Public Hearing on Revised Rules Which Were Submitted on July 17, 1975 | Statewide | 9/3/75 | 10/1/76, 41 FR 43407
(10) Air Quality Modeling to Support Sulfur Dioxide Emission Standards | Statewide | 3/4/77 | 6/1/77, 42 FR 27892
(11) Nonattainment Plans | Mason City, Davenport, Cedar Rapids, Des Moines | 6/22/79 | 3/6/80, 45 FR 14561
(12) Information on VOC Sources to Support the Nonattainment Plan | Linn County | 10/8/79 | 3/6/80, 45 FR 14561
(13) Information and Commitments Pertaining to Legally Enforceable RACT Rules to Support the Nonattainment Plan | Linn County | 11/16/79 | 3/6/80, 45 FR 14561
(14) Lead Plan | Statewide | 8/19/80 | 3/20/81, 46 FR 17778
(15) Letter to Support the Lead Plan | Statewide | 1/19/81 | 3/20/81, 46 FR 17778
(16) Nonattainment Plans to Attain Secondary Standards | Mason City, Cedar Rapids, Des Moines, Davenport, Keokuk, Council Bluffs, Fort Dodge, Sioux City, Clinton, Marshalltown, Muscatine, Waterloo | 4/18/80 | 4/17/81, 46 FR 22372
(17) Information to Support the Particulate Matter Nonattainment Plan | Mason City, Cedar Rapids, Des Moines, Davenport, Keokuk, Council Bluffs, Fort Dodge, Sioux City, Clinton, Marshalltown, Muscatine, Waterloo | 9/16/80 | 4/17/81, 46 FR 22372
(18) Information to Support the Particulate Matter Nonattainment Plan | Mason City, Cedar Rapids, Des Moines, Davenport, Keokuk, Council Bluffs, Fort Dodge, Sioux City, Clinton, Marshalltown, Muscatine, Waterloo | 11/17/80 | 4/17/81, 46 FR 22372
(19) Schedule for Studying Nontraditional Sources of Particulate Matter and for Implementing the Results | Mason City, Cedar Rapids, Des Moines, Davenport, Keokuk, Council Bluffs, Fort Dodge, Sioux City, Clinton, Marshalltown, Muscatine, Waterloo | 6/26/81 | 3/5/82, 47 FR 9462
(20) Air Monitoring Strategy | Statewide | 7/15/81 | 4/12/82, 47 FR 15583
(21) Letter of Commitment to Revise Unapprovable Portions of Chapter 22 | Statewide | 5/14/85 | 9/12/85, 50 FR 37176
(22) Letter of Commitment to Submit Stack Height Regulations and to Implement the EPA's Regulations until the State's Rules Are Approved | Statewide | 4/22/86 | 7/11/86, 51 FR 25199
(23) Letter of Commitment to Implement the Stack Height Regulations in a Manner Consistent with the EPA's Stack Height Regulations with Respect to NSR/PSD Regulations | Statewide | 4/22/87 | 6/26/87, 52 FR 23981
(24) PM10 SIP | Statewide | 10/28/88 | 8/15/89, 54 FR 33536
(25) Letter Pertaining to NOX Rules and Analysis Which Certifies the Material Was Adopted by the State on October 17, 1990 | Statewide | 11/8/90 | 2/13/91, 56 FR 5757
(26) SO2 Plan | Clinton | 3/13/91 | 11/1/91, 56 FR 56158
(27) Letter Withdrawing Variance Provisions | Polk County | 10/23/91 | 11/29/91, 56 FR 60924 | Correction notice published 1/26/93.
(28) Letter Concerning Open Burning Exemptions | Statewide | 10/3/91 | 1/22/92, 57 FR 2472
(29) Compliance Sampling Manual | Statewide | 1/5/93 | 5/12/93, 58 FR 27939
(30) Small Business Assistance Plan | Statewide | 12/22/92 | 9/27/93, 58 FR 50266
(31) Voluntary Operating Permit Program | Statewide | 12/8/94, 2/16/96, 2/27/96 | 4/30/96, 61 FR 18958
(32) SO2 Plan | Muscatine | 6/19/96, 5/21/97 | 12/1/97, 62 FR 63454
(33) SO2 Maintenance Plan | Muscatine | 4/25/97 | 3/19/98, 63 FR 13343
(34) SO2 Control Plan | Cedar Rapids | 9/11/98 | 3/11/99, 64 FR 12090
(35) PM10 Control Plan | Buffalo, Iowa | 10/1/98 | 3/18/99, 64 FR 13346

3. Section 52.824 is amended by revising paragraph (b) to read as follows:

§ 52.824 Original identification of plan section.

* * * * *

(b) The plan was officially submitted on January 27, 1972.

* * * * *

[FR Doc. 04-21386 Filed 9-22-04; 8:45 am]

BILLING CODE 6560-50-P